DEPARTMENT OF LABOR

Employment and Training Administration

[TA-W-61,799]

Peres Pattern Company, Erie, PA; Notice of Negative Determination Regarding Application for Reconsideration

By application postmarked September 26, 2007, a company official requested administrative reconsideration of the Department's negative determination regarding eligibility to apply for Trade Adjustment Assistance (TAA), applicable to workers and former workers of the subject firm. The denial notice was signed on August 15, 2007 and published in the Federal Register on August 30, 2007 (72 FR 50126).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Peres Pattern Company, Erie, Pennsylvania engaged in production of custom molds (i.e. wood, metal and plastic patterns, blow molds, foam molds, rim molds, vacuum molds and aluminum castings) was denied because the “contributed importantly” group eligibility requirement of Section 222 of the Trade Act of 1974, as amended, was not met. The “contributed importantly” test is generally demonstrated through a survey of the workers' firm's declining customers. The survey revealed no imports of custom molds by declining customers during the relevant period. The subject firm did not import custom molds nor shift production to a foreign country during the relevant period.

The petitioner states that the affected workers lost their jobs as a direct result of a loss of customers who used items manufactured by the subject firm as “unfinished goods” and “tooling” for further production of plastic goods. The petitioner alleges that customers of the subject firm which manufacture plastic products decreased purchases of custom molds from the subject firm because they choose to shift their production abroad. Therefore, the petitioner concludes that because sales and production of custom molds at the subject firm have been negatively impacted by the customers shifting their production of plastic products abroad, workers of the subject firm should be eligible for TAA.

In order to establish import impact, the Department must consider imports that are like or directly competitive with those produced at the subject firm. The Department conducted a survey of the subject firm's major declining customer regarding their purchases of custom molds during 2005, 2006 and January through June 2007 over the corresponding 2006 period. The survey revealed that the declining customers did not import custom molds during the relevant period.

Imports of plastic products cannot be considered like or directly competitive with custom molds produced by Peres Pattern Company, Erie, Pennsylvania and imports of plastic products are not relevant in this investigation.

The fact that subject firm's customers are shifting their production abroad is not relevant to this investigation. The shift in production must be administered by the subject firm in order for workers of the subject firm to be considered eligible for TAA.

The petitioner further states that in order to reveal the import impact, the Department should investigate the time period prior to 2005. Furthermore, the petitioner attached a list of declining customers from 1988 to present.

When assessing eligibility for TAA, the Department exclusively considers import impact during the relevant time period (one year prior to the date of the petition). The customers of the subject firm were surveyed regarding their purchases of custom molds during the relevant time period. The survey revealed no imports of custom molds during the relevant time period.

Conclusion

After review of the application and investigative findings, I conclude that there has been no error or misinterpretation of the law or of the facts which would justify reconsideration of the Department of Labor's prior decision. Accordingly, the application is denied.

Signed in Washington, DC, this 11th day of October, 2007.
Elliott S. Kushner,
Certifying Officer, Division of Trade Adjustment Assistance.

[FR Doc. E7-20402 Filed 10-16-07; 8:45 am]

BILLING CODE 4510-FN-P